DEPARTMENT OF DEFENSE

Office of the Secretary

Establishment of Department of Defense Federal Advisory Committee; Independent Panel Review of Judge Advocate Requirements of the Department of the Navy

AGENCY: Department of Defense (DoD).

ACTION: Establishment of Federal advisory committee.

SUMMARY: Under the provisions of section 506 of Public Law 111-84, the Federal Advisory Committee Act of 1972, (5 U.S.C. Appendix, as amended), the Government in the Sunshine Act of 1976 (5 U.S.C. 552b, as amended), and 41 CFR 102-3.50, the Department of Defense gives notice that it is establishing the charter for the Independent Panel Review of Judge Advocate Requirements of the Department of the Navy (hereafter referred to as the Panel).

FOR FURTHER INFORMATION CONTACT: Jim Freeman, Deputy Committee Management Officer for the Department of Defense, 703-601-6128.

SUPPLEMENTARY INFORMATION: The Panel is a non-discretionary Federal advisory committee established to review the judge advocate requirement of the Department of the Navy. The Panel shall:

a. Carry out a study of the policies and management and organizational practices of the U.S. Navy and the U.S. Marine Corps with respect to the responsibilities, assignment, and career development of judge advocates for purposes of determining the number of judge advocates required to fulfill the legal mission of the Department of the Navy.

b. In carrying out the study, the Panel shall review the following:

i. The emergent operational law requirements of the U.S. Navy and the U.S. Marine Corps, including requirements for judge advocates on joint task forces, in support of rule of law objectives in Iraq and Afghanistan, and in operational units;

ii. New requirements to support the Office of Military Commissions and to support the disability evaluation system for members of the U.S. Armed Forces;

iii. The judge advocate requirements of the Department of the Navy for the military justice mission, including assignment policies, training and education, increasing complexity of court-martial litigation, and the performance of the U.S. Navy and U.S. Marine Corps in providing legally sufficient post-trial processing of cases in general courts-martial and special courts-martial.

iv. The role of the Judge Advocate General of the Navy, as the senior uniformed legal officer of the Department of the Navy, to determine whether additional authority for the Judge Advocate General over manpower policies and assignments of judge advocates in the U.S. Navy and U.S. Marine Corps is warranted;

v. Directives issued by the U.S. Navy and the U.S. Marine Corps pertaining to jointly-shared missions requiring legal support;

vi. Career patterns for U.S. Marine Corps judge advocates in order to identify and validate assignments to non-legal billets required for professional development and promotion; and

In addition, the Panel will review, evaluate and assess such other matters and materials as the Panel considers appropriate for purposes of the study.

In carrying out its study the Panel may review, and incorporate as appropriate, the findings of applicable on-going and completed studies in future manpower requirements, including the two-part study by CNA Analysis and Solutions® entitled, “An Analysis of Navy JAG Corps Future Manpower Requirements”.

The Panel, no later than 120 days after its first meeting, shall submit a report of its study. The report, as a minimum, shall include the following:

a. The findings and conclusions of the Panel as a result of the study; and

b. Any recommendations for legislative or administrative action that the Panel considers appropriate in light of the study.

The Panel, pursuant to section 506(a) of Public Law 111-84, shall be comprised of five members appointed by the Secretary of Defense from among private U.S. citizens who have expertise in law, military manpower policies, the missions of the Armed Forces of the United States, or the current responsibilities of judge advocates in ensuring competent legal representation and advice to commanders. The Panel chairperson shall be appointed by the Secretary of Defense from among the total membership. All Panel members shall be appointed for the life of the Panel, and any Panel vacancy shall be filled in the same manner as the original appointment.

Panel members appointed by the Secretary of Defense, who are not full-time or permanent part-time federal government employees, shall be appointed as experts and consultants under the authority of 5 U.S.C. 3109, and serve as special government employees. Panel members, with the exception of travel and per diem for official travel, shall serve without compensation.

With DoD approval, the Panel is authorized to establish subcommittees, as necessary and consistent with its mission. These subcommittees or working groups shall operate under the provisions of the Federal Advisory Committee Act of 1972, the Government in the Sunshine Act of 1976 (5 U.S.C. 552b), and other governing Federal regulations.

Such subcommittees or workgroups shall not work independently of the chartered Panel, and shall report all their recommendations and advice to the Panel for full deliberation and discussion. Subcommittees or workgroups have no authority to make decisions on behalf of the chartered Panel nor can they report directly to the Department of Defense or any Federal officers or employees who are not Panel members.

Subcommittee members, who are not Panel members, shall be appointed in the same manner as the Panel members.

The Panel may hold such meetings or hearings, sit and act as such times and places, take such testimony, and receive such evidence as the Panel considers appropriate to carry out its duties. The Panel, pursuant to section 506(a)(6) of Public Law 111-84, shall meet at the call of the Chairperson. The estimated number of Panel meetings is five (5) per year. The Chairperson shall call the first meeting of the Panel not later than 60 days after the date of the appointment of all the members of the Panel.

The Designated Federal Officer, pursuant to DoD policy, shall be a full-time or permanent part-time DoD employee, and shall be appointed in accordance with established DoD policies and procedures. In addition, the Designated Federal Officer is required to be in attendance at all meetings, however, in the absence of the Designated Federal Officer, the Alternate Designated Federal Officer shall attend the meeting.

Pursuant to 41 CFR 102-3.105(j) and 102-3.140, the public or interested organizations may submit written statements to the Independent Panel Review of Judge Advocate Requirements of the Department of the Navy membership about the Panel's mission and functions. Written statements may be submitted at any time or in response to the stated agenda of planned meeting of the Independent Panel Review of Judge Advocate Requirements of the Department of the Navy.

All written statements shall be submitted to the Designated Federal Officer for the Independent Panel Review of Judge Advocate Requirements of the Department of the Navy, and this individual will ensure that the written statements are provided to the membership for their consideration. Contact information for the Independent Panel Review of Judge Advocate Requirements of the Department of the Navy Designated Federal Officer can be obtained from the GSA's FACA Database— https://www.fido.gov/facadatabase/public.asp.

The Designated Federal Officer, pursuant to 41 CFR 102-3.150, will announce planned meetings of the Independent Panel Review of Judge Advocate Requirements of the Department of the Navy. The Designated Federal Officer, at that time, may provide additional guidance on the submission of written statements that are in response to the stated agenda for the planned meeting in question.

Dated: July 2, 2010.
Mitchell S. Bryman,
Alternate OSD Federal Register Liaison Officer, Department of Defense.

[FR Doc. 2010-16592 Filed 7-7-10; 8:45 am]

BILLING CODE 5001-06-P